DEPARTMENT OF HOMELAND SECURITY

[Docket No. DHS-2014-0073]

Homeland Security Advisory Council—New Tasking

AGENCY: The Office of Policy, DHS.

ACTION: Notice of task assignment for the Homeland Security Advisory Council.

SUMMARY: The Secretary of the Department of Homeland Security (DHS), Jeh Johnson, tasked his Homeland Security Advisory Council (HSAC) to establish a subcommittee entitled the CBP Integrity Advisory Panel on December 9, 2014. The CBP Integrity Advisory Panel will provide findings and recommendations to the Homeland Security Advisory Council on best practices sourced from Federal, state, and local law enforcement integrity leaders. This notice is not a solicitation for membership.

FOR FURTHER INFORMATION CONTACT: Ben Haiman, Deputy Executive Director of the Homeland Security Advisory Council, Office of Policy, U.S. Department of Homeland Security at (202) 380-8615.

SUPPLEMENTARY INFORMATION: The Homeland Security Advisory

Council provides organizationally independent, strategic, timely, specific, and actionable advice and recommendations for the consideration of the Secretary of the Department of

Homeland Security on matters related to homeland security.

The Homeland Security Advisory Council is comprised of leaders of local law enforcement, first responders, state and local government, the private sector, and academia.

Tasking: The DHS Integrity Advisory Panel will develop findings and recommendations that address, among other closely related topics, best practices and recommendations for U.S. Customs and Border Protection. This panel should:

(1) Benchmark CBP's progress in response to Use of Force reviews; (2) Identify best practices from federal, state, local, and tribal law enforcement on integrity incident prevention—both mission compromising and off-duty conduct; (3) Identify best practices from federal, state, local, and tribal law enforcement on transparency pertaining to incident response and discipline as well as stakeholder outreach; (4) Obtain recommendations to ensure CBP develops an effective capability for investigating criminal misconduct within its ranks given CBP's high-risk environment and its expanding workforce;(5)Obtain recommendations for CBP to facilitate enhanced participation among law enforcement and intelligence agencies within an interagency task force environment, combining federal, state, local, and tribal resources to more effectively address the significant threat of public corruption by leveraging resources, capabilities, and reducing duplication of effort; (6) Evaluate CBP's efforts to become an intelligence-driven organization.

Schedule: The DHS CBP Integrity Advisory Panel's findings and recommendations will be submitted to the Homeland

Security Advisory Council for their deliberation and vote during a public meeting. Once the report is voted on by the Homeland Security Advisory Council, it will be sent to the Secretary for his review and acceptance. DHS CBP Integrity Task Force findings and recommendations should be submitted to the Homeland Security Advisory Council by June 2015.

Dated: December 15, 2014.
Mike Miron,
Director,
Homeland Security Advisory Council, DHS.

[FR Doc. 2014-29773 Filed 12-18-14; 8:45 am]

BILLING CODE 9110-9M-P